DEPARTMENT OF LABOR

Employment and Training Administration

[TA-W-75,120A; TA-W-75,120B; TA-W-75,120C; TA-W-75,120D]

Amended Certification Regarding Eligibility To Apply for Worker Adjustment Assistance

Steelcase, Inc., North America Division, Including Workers From Steelcase University, Also Known As Steelcase Learning Center, Including Kentwood City Fleet Truck Garage, Including On-Site Leased Workers From Manower, Inc., Grand Rapids, Michigan.

Steelcase, Inc, North America Division, Kentwood East and Kentwood West Plants, Corporate Development Center, Grand Rapids, Michigan.

Steelcase, Inc., North America Division, Regional Distribution Center, Grand Rapids, Michigan.

Leased Workers From Manpowergroup, Experis, Die Tech Services, Probuss, Inc., The Bartech Group, And Metro Engineering Of Grand Rapids, Inc., Working On-Site At Steelcase, Inc., North America Division, Kentwood East And Kentwood West Plants, Corporate Development Center And Regional Distribution Center, Grand Rapids, Michigan.

In accordance with Section 223 of the Trade Act of 1974, as amended (“Act”), 19 U.S.C. 2273, the Department of Labor issued a Certification of Eligibility to Apply for Worker Adjustment Assistance on February 4, 2011, applicable to workers of Steelcase, Inc., North America Division, including on-site leased workers from Manpower, Inc., Grand Rapids, Michigan. The workers are engaged in the production of office furniture. The notice was published in the Federal Register on February 24, 2011 (76 FR 10399). The notice was amended on February 24, 2011 to correct the impact date to read December 10, 2010. The amended notice was published in the Federal Register on March 10, 2011 (76 FR 13228). The notice was also amended on July 5, 2011 to include Steelcase University, also known as Steelcase Learning Center. The notice as published in the Federal Register on July 14, 2011 (76 FR 41523)

At the request of the State Workforce Office and the company, the Department reviewed the certification for workers of the subject firm.

The review shows the Kentwood East and Kentwood West Plants, Kentwood City Fleet Truck Garage, Regional Distribution Center and Corporate Development Center are engaged in the production of office furniture, warehousing and distribution and supply various support function services for Steelcase, Inc. The review also shows that workers leased from ManpowerGroup, Experis, Die Tech Services, ProBusS, Inc., The Bartech Group and Metro Engineering of Grand Rapids, Inc. were employed on-site at the Grand Rapids, Michigan location of the above mentioned departments of the subject firm.

Based on these findings, the Department is amending this certification to include workers of the Kentwood East and Kentwood West Plants, Kentwood City Fleet Truck Garage, Regional Distribution Center and Corporate Development Center, including workers leased from ManpowerGroup, Experis, Die Tech Services, ProBusS, Inc., The Bartech Group, and Metro Engineering of Grand Rapids, Inc. working on-site at the Grand Rapids, Michigan location of the subject firm.

The intent of the Department's certification is to include all workers employed at Steelcase, Inc., North America Division, Grand Rapids, Michigan who were adversely affected by a shift in production of office furniture to Mexico.

The amended notices applicable to TA-W-75,120A, TA-W-75,120B, TA-W-75,120C, and TA-W-75,120D are hereby issued as follows:

All workers of Steelcase, Inc., North America Division, including workers from Steelcase University, also known as Steelcase Learning Center, including Kentwood City Fleet Truck Garage, including on-site leased workers from Manpower, Inc., Grand Rapids, Michigan (TA-W-75,120A), who became totally or partially separated from employment on or after December 10, 2010 through February 4, 2013, and all workers in the group threatened with total or partial separation from employment on date of certification through two years from the date of certification, are eligible to apply for adjustment assistance under Chapter 2 of Title II of the Trade Act of 1974, as amended; and

All workers of Steelcase, Inc., North America Division, Kentwood East and Kentwood West Plants, Corporate Development Center, Grand Rapids, Michigan (TA-W-75,120B), who became totally or partially separated from employment on or after November 21, 2011 through February 4, 2013, and all workers in the group threatened with total or partial separation from employment on the date of certification through two years from the date of certification, are eligible to apply for adjustment assistance under Chapter 2 of Title II of the Trade Act of 1974, as amended; and

All workers of Steelcase, Inc., North America Division, Regional Distribution Center, Grand Rapids, Michigan (TA-W-75,120C), who became totally or partially separated from employment on or after November 28, 2011 through February 4, 2013, and all workers in the group threatened with total or partial separation from employment on the date of certification through two years from the date of certification, are eligible to apply for adjustment assistance under Chapter 2 of Title II of the Trade Act of 1974, as amended; and

Leased workers from ManpowerGroup, Experis, Die Tech Services ProBusS, Inc., The Bartech Group, and Metro Engineering of Grand Rapids, Inc. working on-site at Steelcase, Inc., North America Division, Kentwood East and Kentwood West Plants, Corporate Development Center, and Regional Distribution Center, Grand Rapids, Michigan (TA-W-75,120D), who became totally or partially separated from employment on or after December 10, 2010 through February 4, 2013, and all workers in the group threatened with total or partial separation from employment on the date of certification through two years from the date of certification, are eligible to apply for adjustment assistance under Chapter 2 of Title II of the Trade Act of 1974, as amended.

Signed in Washington, DC, this 28th day of November 2011.
Michael W. Jaffe,
Certifying Officer, Office of Trade Adjustment Assistance.

[FR Doc. 2011-31238 Filed 12-5-11; 8:45 am]

BILLING CODE 4510-FN-P